DEPARTMENT OF THE INTERIOR

Bureau of Reclamation

[DES 06-21]

Contra Costa Water District Alternative Intake Project, Contra Costa and San Joaquin Counties, CA

AGENCY: Bureau of Reclamation, Interior.

ACTION: Notice of availability of the Draft Environmental Impact Report/ Environmental Impact Statement (EIR/EIS) and notice of public hearings.

SUMMARY: The Bureau of Reclamation (Reclamation) and the Contra Costa Water District (CCWD) have made available for public review and comment a Draft EIR/EIS for the proposed Contra Costa Water District Alternative Intake Project. The Draft EIR/EIS describes and presents the environmental effects of five alternatives: the No-Action Alternative and four action alternatives. Three public hearings will be held to receive comments from individuals and organizations on the Draft EIR/EIS.

DATES: The Draft EIR/EIS will be available for a 45-day public review period. Comments are due by close of business on Monday, June 26, 2006. Three public hearings have been scheduled to receive oral or written comments regarding the project's environmental effects:

• June 6, 2006, 7 p.m. to 8 p.m., Antioch, CA

• June 7, 2006, 10 a.m. to 11 a.m. Sacramento, CA

• June 8, 2006, 7 p.m. to 8 p.m., Concord, CA

A 30-minute open house to view project information and interact with the project team will precede the public hearings in Antioch and Concord.

ADDRESSES: The public hearings will be held at the following locations:

• Antioch at the Antioch Woman's Club, 509 G Street, Antioch, CA

• Sacramento at the Federal Building Cafeteria, Conference Room C-1001, 2800 Cottage Way, Sacramento, CA

• Concord at the Contra Costa Water District Board Room, 1331 Concord Avenue, Concord, CA 94524

Send comments on the Draft EIR/EIS to Ms Erika Kegel, Project Manager, Bureau of Reclamation, 2800 Cottage Way, Sacramento, CA 95825 or Ms. Samantha Salvia, Project Manager, Contra Costa Water District, PO Box H2O, Concord, CA 94524-2099.

Copies of the Draft EIR/EIS may be requested from Ms. Samantha Salvia, Project Manager, Contra Costa Water District, PO Box H2O, Concord, CA 94524-2099; telephone: 925-688-8057; e-mail: alternativeintake@ccwater.com. Copies of the Draft EIR/EIS are available for public inspection at:

• Bureau of Reclamation, Regional Library, 2800 Cottage Way, Sacramento, CA

• Contra Costa Water District, 1331 Concord Ave., Concord, CA

• Antioch Public Library, 501 W. 18th Street, Antioch, CA

• Brentwood Public Library, 751 Third Street, Brentwood, CA

• Concord Public Library, 2900 Salvio Street, Concord, CA

The Draft EIR/EIS and related documents are also available at Reclamation's Web site at http://www.usbr.gov/mp/nepa/nepa_projdetails.cfm?Project_ID=1818 and CCWD's project Web site at http://www.ccwater-alternativeintake.com.

FOR FURTHER INFORMATION CONTACT: Ms. Erika Kegel, Project Manager, Bureau of Reclamation, Mid-Pacific Region, 2800 Cottage Way, MP-730, Sacramento, CA 95825-1898, 916-978-5081, TDD 916-978-5608, ekegel@mp.usbr.gov or Ms. Samantha Salvia, Project Manager, Contra Costa Water District, PO Box H2O, Concord, CA 94524-2099, 925-688-8057, alternativeintake@ccwater.com.

SUPPLEMENTARY INFORMATION: The project purpose is to protect and improve the quality of water delivered to CCWD's untreated- and treated-water customers. Project objectives are to improve delivered water quality, especially during drought periods; protect and improve health and/aesthetic benefits to customers; improve operational flexibility; and protect delivered water quality during emergencies. Water quality problems for CCWD result from elevated concentrations of salinity (chloride and bromide), minerals, organic carbon, and turbidity at CCWD's Sacramento-San Joaquin River Delta intakes. The proposed action includes the construction of a new intake and fish screen in the Delta on Victoria Canal, a pumping plant, and an associated 2- to 4-mile-long pipeline from the new intake across Victoria Island to CCWD's existing Old River conveyance system. Reclamation actions associated with the proposed action are agreeing to a change in point of diversion of Central Valley Project (CVP) water under Contract No. I75r-3401A-LTR1 and petitioning the California State Water Resources Control Board for necessary water right changes regarding point of diversion. Through the proposed action, CCWD is seeking to relocate some of its diversions to a Delta location with better water quality and would not seek to increase its water rights, CVP contract amounts, or permitted Los Vaqueros Reservoir filling rates.

Oral and written comments, including names and home addresses of respondents, will be available for public review. Individual respondents may request that their home address be withheld from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be available for public disclosure in their entirety.

Hearing Process Information

The purpose of the public hearings is to provide the public with an opportunity to comment on environmental issues addressed in the Draft EIR/EIS. Written comments will also be accepted.

Persons needing special assistance to attend and participate in the public hearings should contact Ms. Erika Kegel, at 916-978-5081, TDD 916-978-5608, as soon as possible. To allow sufficient time to process requests, please call no later than one week before the public hearings. Information regarding this proposed action is available in alternative formats upon request.

Susan L. Ramos,
Assistant Regional Director, Mid-Pacific Region.

[FR Doc. E6-7115 Filed 5-9-06; 8:45 am]

BILLING CODE 4310-MN-P